DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (“the Program”), as required by section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, N.W., Washington, D.C. 20005, (202) 219-9657. For information on HRSA's role in the Program, contact the Director, National Vaccine Injury Compensation Program, 5600 Fishers Lane, Room 8A-46, Rockville, MD 20857; (301) 443-6593.

SUPPLEMENTARY INFORMATION: The Program provides a system of no-fault compensation for certain individuals who have been injured by specified childhood vaccines. Subtitle 2 of title XXI of the PHS Act, 42 U.S.C. 300aa-10 et seq., provides that those seeking compensation are to file a petition with the U.S. Court of Federal Claims and to serve a copy of the petition on the Secretary of Health and Human Services, who is named as the respondent in each proceeding. The Secretary has delegated her responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at section 2114 of the PHS Act or as set forth at 42 CFR 100.3, as applicable. This Table lists for each covered childhood vaccine the conditions which will lead to compensation and, for each condition, the time period for occurrence of the first symptom or manifestation of onset or of significant aggravation after vaccine administration. Compensation may also be awarded for conditions not listed in the Table and for conditions that are manifested after the time periods specified in the Table, but only if the petitioner shows that the condition was caused by one of the listed vaccines.

Section 2112(b)(2) of the PHS Act, 42 U.S.C. 300aa-12(b)(2), requires that the Secretary publish in the Federal Register a notice of each petition filed. Set forth below is a list of petitions received by HRSA on October 1, 1999, through December 22, 1999.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Table the first symptom or manifestation of the onset or significant aggravation of which did not occur within the time period set forth in the Table but which was caused by a vaccine” referred to in the Table.

This notice will also serve as the special master's invitation to all interested persons to submit written information relevant to the issues described above in the case of the petitions listed below. Any person choosing to do so should file an original and three (3) copies of the information with the Clerk of the U.S. Court of Federal Claims at the address listed above (under the heading FOR FURTHER INFORMATION CONTACT), with a copy to HRSA addressed to Director, Bureau of Health Professions, 5600 Fishers Lane, Room 8-05, Rockville, MD 20857. The Court's caption (Petitioner's Name v. Secretary of Health and Human Services) and the docket number assigned to the petition should be used as the caption for the written submission.

Chapter 35 of title 44, United States Code, related to paperwork reduction, does not apply to information required for purposes of carrying out the Program.

List of Petitions

1. Timothy P. Shelenberger, New Wilmington, Pennsylvania, Court of Federal Claims Number 99-0853V.

2. Andrea and Brian Franklin on behalf of Scott P. Franklin, Maitland, Florida, Court of Federal Claims Number 99-0855V.

3. Jennifer and Gene Young on behalf of Miranda Young, Deceased, McCook, Nebraska, Court of Federal Claims Number 99-0856V.

4. Melody Miller, Fort Myers, Florida, Court of Federal Claims Number 99-0859V.

5. Alisha and Tom L. Conrad on behalf of James-Kylie N. Conrad, Washington, Iowa, Court of Federal Claims Number 99-0861V.

6. Richard Gilbert and Doris McClinton on behalf of Jamal Gilbert, Alexandria, Louisiana, Court of Federal Claims Number 99-0866V.

7. Jimena Alvarado on behalf of Maria J. Alvarado, Belleville, New Jersey, Court of Federal Claims Number 99-0871V.

8. Mary Ann and Douglas Besser on behalf of Nicholas Besser, Madison, Wisconsin, Court of Federal Claims Number 99-0872V.

9. Vanessa Rowley, Sandy, Utah, Court of Federal Claims Number 99-0880V.

10. Cynthia and William Nyberg on behalf of Erik Anders Nyberg, Seattle, Washington, Court of Federal Claims Number 99-0887V.

11. Angela Vasquez on behalf of Stephanie Vasquez, Deceased, Burley, Idaho, Court of Federal Claims Number 99-0888V.

12. Melrose Heltsley, Elkton, Kentucky, Court of Federal Claims Number 99-0892V.

13. Marla and David Lefeve on behalf of Steven James Lefeve, Baton Rouge, Louisiana, Court of Federal Claims Number 99-0896V.

14. Lyne and Nelson Adams on behalf Thomas Adams, McHenry, Illinois, Court of Federal Claims Number 99-0901V.

15. Luther B. Yount, Jr., Charleston, Indiana, Court of Federal Claims Number 99-0906V.

16. Harris Sandler, Boca Raton, Florida, Court of Federal Claims Number 99-0907V.

17. David Jenkins, San Diego, California, Court of Federal Claims Number 99-0911V.

18. Regina Touchstone on behalf of Ashley Deaver, Fort Myers, Florida, Court of Federal Claims Number 99-0912V.

19. Josie V. Rivera, Sarasota, Florida, Court of Federal Claims Number 99-0939V.

20. Shon and Jonathan Burch on behalf of Sabian E. Burch, Vienna, Virginia, Court of Federal Claims Number 99-0946V.

21. Ann and Scott Raper on behalf of Rian Raper, Deceased, Fort Hood, Texas, Court of Federal Claims Number 99-0947V.

22. Maria Perez on behalf of Dimitri Flores, Bronx, New York, Court of Federal Claims Number 99-0949V.

23. Kelli Logan on behalf of Logan Doughty, Oklahoma City, Oklahoma, Court of Federal Claims Number 99-0959V.

24. Su (John) F. Goh on behalf of Chelsea Goh, Kansas City, Missouri, Court of Federal Claims Number 99-0962V.

25. Riley Beth Elton-Gatherum, Kearneysville, West Virginia, Court of Federal Claims Number 99-0963V.

26. Karen B. Locklear on behalf of Katlyn Lathan, Southern Pines, North Carolina, Court of Federal Claims Number 99-0966V.

27. Helen Johnson, Bossier Parish, Louisiana, Court of Federal Claims Number 99-0978.

28. Kristen and Patrick Strain on behalf of Zachary P. Strain, Vienna, Virginia, Court of Federal Claims Number 99-0985V.

29. Kim Schirmer-Guzman and Adolfo Guzman on behalf of Brianna Guzman, Old Bridge, New Jersey, Court of Federal Claims Number 99-0998V.

30. Janet Boeger on behalf of Preston Lucido-Boeger, Antioch, California, Court of Federal Claims Number 99-01008V.

31. Yulanda Hargrove Turner, Round Rock, Texas, Court of Federal Claims Number 99-01009V.

Dated: May 2, 2000.
Claude Earl Fox,
Administrator.

[FR Doc. 00-11390 Filed 5-5-00; 8:45 am]

BILLING CODE 4160-15-U